DEPARTMENT OF COMMERCE

National Oceanic and Atmospheric Administration

RIN 0648-XD071

Pacific Fishery Management Council; Public Meetings and Hearings

AGENCY: National Marine Fisheries Service (NMFS), National Oceanic and Atmospheric Administration (NOAA), Commerce.

ACTION: Notice of opportunities to submit public comments.

SUMMARY: The Pacific Fishery Management Council (Pacific Council) has announced its annual preseason management process for the 2014 ocean salmon fisheries. This notice informs the public of opportunities to provide comments on the 2014 ocean salmon management measures.

DATES: Written comments on the salmon management alternatives adopted by the Pacific Council at its March 2014 meeting, and described in Preseason Report II, submitted electronically or in hard copy by 11:59 p.m. Pacific Time, March 30, 2014 will be considered in the Pacific Council's final recommendation for the 2014 management measures.

ADDRESSES: Documents will be available from Ms. Dorothy Lowman, Chair, Pacific Fishery Management Council, 7700 NE Ambassador Place, Suite 101, Portland, OR 97220-1384, telephone: 503-820-2280 (voice) or 503-820-2299 (fax), and posted on the Pacific Council Web site at http://www.pcouncil.org. You may submit comments, identified by NOAA-NMFS-2014-0005, by any one of the following methods:

• Electronic Submissions: Submit all electronic public comments via the Federal e-Rulemaking Portal. Go to http://www.regulations.gov/#!docketDetail;D=NOAA-NMFS-2014-0005, click the “Comment Now!” icon, complete the required fields, and enter or attach your comments.

• Mail: Ms. Dorothy Lowman, Chair, Pacific Fishery Management Council, 7700 NE Ambassador Place, Suite 101, Portland, OR 97220-1384.

• Fax: 503-820-2299, Attn: Mr. Mike Burner.

• Comments can also be submitted via email at PFMC.comments@noaa.gov.

Instructions: Comments sent by any other method, to any other address or individual may not be considered by NMFS or the Pacific Council. All comments received are a part of the public record and will generally be posted for public viewing on www.regulations.gov without change. All personal identifying information (e.g., name, address, etc.), confidential business information, or otherwise sensitive information submitted voluntarily by the sender will be publicly accessible. NMFS and the Pacific Council will accept anonymous comments (enter “N/A” in the required fields if you wish to remain anonymous). Attachments to electronic comments will be accepted in Microsoft Word, Excel, or Adobe PDF file formats only.

FOR FURTHER INFORMATION CONTACT: Mr. Mike Burner, telephone: 503-820-2280. For information on submitting comments via the Federal e-Rulemaking portal, contact Peggy Mundy, telephone: 206-526-4323.

SUPPLEMENTARY INFORMATION: The Pacific Council has published its annual notice of availability of reports; public meetings, and hearings for the 2014 ocean salmon fisheries (78 FR 73850, December 9, 2013). The Pacific Council will adopt alternatives for 2014 ocean salmon fisheries at its meeting, March 7-13, 2014 at the DoubleTree by Hilton Hotel in Sacramento, California. Details of this meeting are available on the Pacific Council's Web site (www.pcouncil.org) and will be published in the Federal Register in February 2014. On March 21, 2014, “Preseason Report II—Proposed Alternatives and Environmental Assessment Part 2 for 2014 Ocean Salmon Fishery Regulations” and public hearing schedule will be mailed to the public that have requested to receive these documents (see ADDRESSES) and posted on the Pacific Council Web site at http://www.pcouncil.org. The report will include a description of the salmon management alternatives and a summary of their biological and economic impacts.

Comments on the alternatives the Pacific Council adopts at its March 2014 meeting, and described in Preseason Report II, may be submitted in writing or electronically as described under Addresses, or verbally or in writing at any of the public hearings held on March 24-25, 2014, or at the Pacific Council's meeting, April 4-10, 2014, at the Hilton Hotel in Vancouver, Washington. Details of these meetings are available on the Pacific Council's Web site (www.pcouncil.org) and will be published in the Federal Register. Written and electronically submitted comments must be received no later than 11:59 p.m. Pacific Time, March 30, 2014 in order to be included in the briefing book for the April Council meeting where they will be considered in the adoption of the Pacific Council's final recommendation for the 2014 salmon fishery management measures. All comments received accordingly will be reviewed and considered by the Pacific Council and NMFS.

Authority: 16 U.S.C. 1801 et seq.

Dated: January 29, 2014.
Sean F. Corson,
Acting Deputy Director, Office of Sustainable Fisheries, National Marine Fisheries Service.

[FR Doc. 2014-02169 Filed 1-31-14; 8:45 am]

BILLING CODE 3510-22-P